DEPARTMENT OF COMMERCE

National Oceanic and Atmospheric Administration

50 CFR Part 635

[Docket No. 120706221-2705-02]

RIN 0648-XD369

Atlantic Highly Migratory Species (HMS); Commercial Blacknose Sharks and Non-Blacknose Small Coastal Sharks (SCS) in the Atlantic Region

AGENCY: National Marine Fisheries Service (NMFS), National Oceanic and Atmospheric Administration (NOAA), Commerce.

ACTION: Temporary rule; closure.

SUMMARY: NMFS is closing the fisheries for commercial blacknose sharks and non-blacknose SCS in the Atlantic region. This action is necessary because the commercial landings of Atlantic blacknose sharks for the 2014 fishing season has exceeded 80 percent of the available commercial quota as of July 22, 2014.

DATES: The commercial fisheries for blacknose sharks and Atlantic non-blacknose SCSs in the Atlantic region are closed effective 11:30 p.m. local time July 28, 2014 until the end of the 2014 fishing season on December 31, 2014, or until and if NMFS announces via a notice in the Federal Register that additional quota is available and the season is reopened.

FOR FURTHER INFORMATION CONTACT: Karyl Brewster-Geisz or Alexis Jackson 301-427-8503; fax 301-713-1917.

SUPPLEMENTARY INFORMATION: The Atlantic shark fisheries are managed under the 2006 Consolidated HMS Fishery Management Plan (FMP), its amendments, and its implementing regulations (50 CFR part 635) issued under authority of the Magnuson-Stevens Fishery Conservation and Management Act (16 U.S.C. 1801 et seq.).

Under § 635.5(b)(1), dealers must electronically submit reports on sharks that are first received from a vessel on a weekly basis through a NMFS-approved electronic reporting system, received by NMFS no later than midnight, local time, of the first Tuesday following the end of the reporting week unless the dealer is otherwise notified by NMFS. Under § 635.28(3), the quotas of certain species and/or management groups are linked. The quotas for blacknose sharks and the non-blacknose SCS management group in the Atlantic region are linked (§ 635.28(b)(3)(iii)). Under § 635.28(b)(2), when NMFS calculates that the landings for any species and/or management group of a linked group have exceeded 80 percent of the available quota, NMFS will file for publication with the Office of the Federal Register a notice of closure for all of the species and/or management groups in a linked group that will be effective no fewer than 5 days from date of filing. From the effective date and time of the closure until and if NMFS announces, via a notice in the Federal Register, that additional quota is available and the season is reopened, the fisheries for all linked species and/or management groups is closed, even across fishing years. On November 26, 2013 (78 FR 70500), NMFS announced that the commercial Atlantic blacknose shark quota for 2014 is 17.5 metric tons (mt) dressed weight (dw) (38,638 lb dw), and the Atlantic non-blacknose SCS quota is 264.1 metric tons (mt) dressed weight (dw) (582,333 lb dw). Dealer reports recently received through July 22, 2014, indicate that 15.2 mt dw or 87 percent of the available Atlantic blacknose shark quota has been landed and 85.2 mt dw or 32 percent of the available Atlantic non-blacknose SCS quota has been landed. Accordingly, NMFS is closing both the commercial blacknose shark fishery and non-blacknose SCS management group in the Atlantic region as of 11:30 p.m. local time July 28, 2014. The fisheries for all other shark species or management groups that are currently open will remain open, including the fisheries for commercial Atlantic aggregated large coastal sharks (LCS) and Atlantic hammerhead sharks.

At § 635.27(b)(1), the boundary between the Gulf of Mexico region and the Atlantic region is defined as a line beginning on the East Coast of Florida at the mainland at 25°20.4′ N. lat, proceeding due east. Any water and land to the south and west of that boundary is considered, for the purposes of monitoring and setting quotas, to be within the Gulf of Mexico region.

During the closure, retention of blacknose sharks and non-blacknose SCS in the Atlantic region is prohibited for persons fishing aboard vessels issued a commercial shark limited access permit under § 635.4. However, persons aboard a commercially permitted vessel that is also properly permitted to operate as a charter vessel or headboat for HMS and is engaged in a for-hire trip could fish under the recreational retention limits for sharks and “no sale” provisions (§ 635.22(a) and (c)).

During this closure, a shark dealer issued a permit pursuant to § 635.4 may not purchase or receive blacknose sharks or non-blacknose SCS in the Atlantic region from a vessel issued an Atlantic Shark Limited Access Permit (LAP), except that a permitted shark dealer or processor may possess blacknose sharks and/or non-blacknose SCS in the Atlantic region that were harvested, off-loaded, and sold, traded, or bartered prior to the effective date of the closure and were held in storage consistent with § 635.28(b)(5). Similarly, a shark dealer issued a permit pursuant to § 635.4 may, in accordance with relevant state regulations, purchase or receive blacknose sharks and/or non-blacknose SCS in the Atlantic region if the sharks were harvested, off-loaded, and sold, traded, or bartered from a vessel that fishes only in state waters and that has not been issued an Atlantic Shark LAP, HMS Angling permit, or HMS Charter/Headboat permit pursuant to § 635.4.

Classification

Pursuant to 5 U.S.C. 553(b)(B), the Assistant Administrator for Fisheries, NOAA (AA), finds that providing prior notice and public comment for this action is impracticable and contrary to the public interest because the fisheries are currently underway and any delay in this action would result in overharvest of the quota and be inconsistent with management requirements and objectives. Similarly, affording prior notice and opportunity for public comment on this action is contrary to the public interest because if the quota is exceeded, the stock may be negatively affected and fishermen ultimately could experience reductions in the available quota and a lack of fishing opportunities in future seasons. For these reasons, the AA also finds good cause to waive the 30-day delay in effective date pursuant to 5 U.S.C. 553(d)(3). This action is required under § 635.28(b)(2) and is exempt from review under Executive Order 12866.

Authority: 16 U.S.C. 1801 et seq.

Dated: July 22, 2014.
Alan D. Risenhoover,
Director, Office of Sustainable Fisheries, National Marine Fisheries Service.

[FR Doc. 2014-17629 Filed 7-23-14; 11:15 am]

BILLING CODE 3510-22-P